DEPARTMENT OF ENERGY

10 CFR Part 430

[Docket Number EE-2008-BT-STD-0012]

RIN 1904-AB79

Energy Conservation Program: Energy Conservation Standards for Residential Refrigerators, Refrigerator-Freezers, and Freezers

Correction

In rule document 2011-22329 appearing on pages 57516 through 57612 in the issue of Thursday, September 15, 2011 make the following correction:

§ 430.32 [Corrected]

On page 57610, in § 430.32(a), in the first column, in the sentence preceding the second table, “September 14, 2014” should read “September 15, 2014”.

[FR Doc. C1-2011-22329 Filed 11-15-11; 8:45 am]

BILLING CODE 1505-01-P